DEPARTMENT OF ENERGY

Federal Energy Regulatory Commission

[Docket No. EL18-137-000]

Notice of Institution of Section 206 Proceeding and Refund Effective Date; NRG Energy Center Dover LLC

On May 3, 2018, the Commission issued an order in Docket No. EL18-137-000, pursuant to section 206 of the Federal Power Act (FPA), 16 U.S.C. 824e (2012), instituting an investigation into whether NRG Energy Center Dover LLC's reactive supply and voltage control service rates may be unjust and unreasonable. NRG Energy Center Dover LLC, 163 FERC ¶ 61,085 (2018).

The refund effective date in Docket No. EL18-137-000, established pursuant to section 206(b) of the FPA, will be the date of publication of this notice in the Federal Register.

Any interested person desiring to be heard in Docket No. EL18-137-000 must file a notice of intervention or motion to intervene, as appropriate, with the Federal Energy Regulatory Commission, 888 First Street NE, Washington, DC 20426, in accordance with Rule 214 of the Commission's Rules of Practice and Procedure, 18 CFR 385.214, within 21 days of the date of issuance of the order.

Dated: May 3, 2018.
Nathaniel J. Davis, Sr.,
Deputy Secretary.

[FR Doc. 2018-09853 Filed 5-8-18; 8:45 am]

BILLING CODE 6717-01-P